DEPARTMENT OF TRANSPORTATION

Federal Highway Administration

Notice of Final Federal Agency Actions on Proposed Highway Projects in Texas

AGENCY: Texas Department of Transportation (TxDOT), Federal Highway Administration (FHWA), U.S. Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is December 5, 2024. If the Federal law that authorizes judicial review of a claim provides a time period of less than 150 days for filing such a claim, then that shorter time period still applies.

FOR FURTHER INFORMATION CONTACT: Patrick Lee, Environmental Affairs Division, Texas Department of Transportation, 125 East 11th Street, Austin, Texas 78701; telephone: (512) 416-2358; email: Patrick.Lee@txdot.gov. TxDOT's normal business hours are 8:00 a.m.-5:00 p.m. (central time), Monday through Friday.

SUPPLEMENTARY INFORMATION: The environmental review, consultation, and other actions required by applicable Federal environmental laws for these projects are being, or have been, carried out by TxDOT pursuant to 23 U.S.C. 327 and a Memorandum of Understanding dated December 9, 2019, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting the local TxDOT office at the address or telephone number provided for each project below.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377] (Section 404, Section 401, Section 319); Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990 Protection of Wetlands; E.O. 11988 Floodplain Management; E.O. 12898 Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. Loop 286 from Stillhouse Road to US 82 E, Lamar County, Texas. The project will reconstruct the existing four-lane section of Loop 286 as a four-lane undivided freeway facility with frontage roads for a length of approximately 2.8 miles. The project includes construction of two 12-foot-wide main lanes in each direction, two 12-foot-wide frontage road lanes in each direction, ramps on either side of the improved roadway where access is needed in the vicinity of major intersections, a 12-foot-wide auxiliary main lane in each direction where needed due to ramp deceleration/acceleration spacing requirements, and right- or left-turn lanes at major intersections including FM 195, North Collegiate Drive, and Pine Mill Road. The project includes the construction of a 10-foot shared use path along the westbound (north side) of Loop 286 and five-foot sidewalks with a five-foot buffer along eastbound (south) Loop 286 and six-foot sidewalks where a five-foot buffer is not feasible. The project will also improve the existing grade-separated interchange at FM 195; construct a new grade-separated interchange at North Collegiate Drive; improve drainage including a combination of open ditches, curb and gutter, and storm sewer; and improve traffic control at FM 195, North Collegiate Drive, and Pine Mill Road intersections. The actions by TxDOT and Federal agencies and the laws under which such actions were taken are described in the Categorical Exclusion Determination issued on March 8, 2024, and other documents in the TxDOT project file. The Categorical Exclusion Determination and other documents in the TxDOT project file are available by contacting the TxDOT Paris District Office at 1365 N Main Street, Paris, TX 75460; telephone: (903) 737-9213.

2. Loop 286 from SH 19 to approximately 0.5 mile south of US 271, Lamar County, Texas. The project will reconstruct the existing two-lane to three-lane rural section of Loop 286 to a five-lane undivided highway. The completed roadway will consist of two 12-foot-wide travel lanes and 10-foot-wide outside shoulders in each direction with one 16-foot-wide center median two-way left-turn lane. From approximately 300 feet east of FM 905, the roadway will transition to a four-lane highway divided by a grassy median with two 12-foot-wide travel lanes and 10-foot-wide outside shoulders in each direction to match the existing Loop 286 lane configuration at the east end of the project termini. The westbound travel lanes will have 4-foot-wide inside shoulders and the eastbound travel lanes will have 6-foot-wide inside shoulders. Intersection improvements will provide up to two additional 12-foot-wide right- or left-turn lanes at South Collegiate Drive, FM 1507, and FM 905. Drainage improvements will include a combination of open ditches, curb and gutter, and storm sewer. A 12-foot-wide shared use path will be constructed along the north side of Loop 286 from SH 19 to FM 905. The project length is approximately 3.8 miles. The actions by TxDOT and Federal agencies and the laws under which such actions were taken are described in the Categorical Exclusion Determination issued on April 4, 2024, and other documents in the TxDOT project file. The Categorical Exclusion Determination and other documents in the TxDOT project file are available by contacting the TxDOT Paris District Office at 1365 N Main Street, Paris, TX 75460; telephone: (903) 737-9213.

3. Sean Haggerty Drive from Nathan Bay Drive to Dryer Street, El Paso County, Texas. The project will reconstruct Sean Haggerty Drive to provide two travel lanes in each direction separated by a median and a bridge over the Greenbelt levee. Bicycle and pedestrian accommodations will also be added. The actions by TxDOT and Federal agencies and the laws under which such actions were taken are described in the Categorical Exclusion Determination issued on April 11, 2024, and other documents in the TxDOT project file. The Categorical Exclusion Determination and other documents in the TxDOT project file are available by contacting the TxDOT El Paso District Office at 13301 Gateway West, El Paso, Texas 79928; telephone: (915) 790-4341.

4. Mile 10 North Road, from Mile 6 W (Westgate Drive) to FM 1015, Hidalgo County, Texas. The improvements will widen Mile 10 N Road from a two-lane rural roadway to a four-lane divided urban road for approximately three miles, improve the existing roadway intersections, and improve drainage. Mile 10 N Road from Mile 6 W (Westgate Dr.) to Mile 4 Road, a length of two miles, will be widened to an urban roadway consisting of four 12-foot-wide travel lanes, a 12-foot-wide continuous left-turn lane, a six-foot-wide sidewalk, and a 12-foot-wide shared-use path lane. Drainage will be handled by a storm drain system. From Mile 4 Road to FM 1015, a length of one mile, Mile 10 North Road is within the 100-year floodplain as identified by FEMA; therefore, the roadway would be elevated to allow one travel lane in each direction to remain open during a 100-yr storm event. For these limits Mile 10 North Road would have roadside ditches in addition to the storm drain system. A 12-foot-wide right turn lane would be provided along Mile 10 North Road at major intersections and at schools. Outfalls for drainage are planned. The actions by TxDOT and Federal agencies and the laws under which such actions were taken are described in the Categorical Exclusion Determination issued on April 16, 2024, and other documents in the TxDOT project file. The Categorical Exclusion and other documents in the TxDOT project file are available by contacting the TxDOT Pharr District Office at 600 West Interstate 2, Pharr, Texas 78577; telephone: (956) 702-6102.

5. FM 521 from CR 56 to SH 6, Fort Bend County, Texas. The project will widen FM 521 between CR 56 and SH 6 from a two-lane undivided roadway to a four-lane roadway with raised medians and bicycle and pedestrian accommodations. The project is approximately five miles in length. The actions by TxDOT and Federal agencies and the laws under which such actions were taken are described in the Categorical Exclusion issued on April 17, 2024, and other documents in the TxDOT project file. The Categorical Exclusion determination and other documents in the TxDOT project file are available by contacting the TxDOT Houston District Office at 7600 Washington Avenue, Houston, Texas 77007; telephone: (713) 802-5076.

6. US 377 from Holmes Drive to FM 167, Hood County, Texas. The project will extend along US 377 from Holmes Drive to 3,000 feet north of FM 167 in the City of Granbury, Texas, over a distance of approximately nine miles. The project will reconstruct and widen US 377 from a four-lane divided highway to a six-lane divided highway with a raised median. Frontage roads will also be provided along US 377. A new grade-separated interchange will be constructed at Business 377. The actions by TxDOT and Federal agencies and the laws under which such actions were taken are described in the Categorical Exclusion Determination issued on May 6, 2024, and other documents in the TxDOT project file. The Categorical Exclusion Determination and other documents in the TxDOT project file are available by contacting the TxDOT Fort Worth District Office at 2501 S W Loop 820, Fort Worth, Texas 76133: telephone: (817) 370-6744.

7. US 75 from FM 375 to FM 1417, Grayson County, Texas. The project will extend for a total of 15.01 miles from approximately 0.29 mile south of FM 375 to approximately 0.81 mile north of FM 1417. The project will widen US 75 to three 12-foot-wide travel lanes in each direction (six lanes total) with 10- to 11-foot-wide inside and outside shoulders. The existing two-way frontage roads will be converted to one-way frontage roads. Eight-foot-wide outside shoulders will be added to the existing one-way frontage roads. Sidewalks will be added intermittently near Bear Rd, south of LB Kirby Ave., and south of FM 1417. Some cross streets and intersections will also be reconstructed within the existing US 75 right-of-way, including FM 375, FM 121, Haning St., and FM 1417. New overpasses will be added between the frontage roads approximately 0.51 mile south of LB Kirby Ave. and at Simmons Lp. Access will remain controlled, although some ramps would be moved from their existing locations. The actions by TxDOT and Federal agencies and the laws under which such actions were taken are described in the Categorical Exclusion Determination issued on May 8, 2024, and other documents in the TxDOT project file. The Categorical Exclusion Determination and other documents in the TxDOT project file are available by contacting the TxDOT Paris District Office at 1365 N Main Street, Paris, Texas 75460; telephone: (903) 737-9213.

8. State Highway Spur 298 from US 84 to SL 396 (Valley Mills Drive), McLennan County, Texas. Two 12-foot main lanes of State Highway Spur 298 will be expanded to four 12-foot main lanes in each direction, including 12-foot shoulders and turn lanes to be separated by a grass median of variable width. The project is 1.4 miles in length. The actions by TxDOT and Federal agencies and the laws under which such actions were taken are described in the Categorical Exclusion Determination issued on May 16, 2024, and other documents in the TxDOT project file. The Categorical Exclusion Determination and other documents in the TxDOT project file are available by contacting the TxDOT Waco District Office at 100 South Loop Drive, Waco, Texas 78704; telephone: (254) 867-2700.

9. IH 10 from Heights Blvd. to IH 45, Harris County, Texas. The project will raise the elevation of the existing I-10 main lanes above the floodplain of White Oak Bayou from Heights Boulevard to I-45 in Downtown Houston. The project also includes drainage improvements and amenities for bicyclists and pedestrians. The project will be approximately 1.8 miles in length. The actions by TxDOT and Federal agencies and the laws under which such actions were taken are described in the Categorical Exclusion Determination issued on May 29, 2024, and other documents in the TxDOT project file. The Categorical Exclusion Determination and other documents in the TxDOT project file are available by contacting the TxDOT Houston District Office at 7600 Washington Avenue, Houston, Texas 77007; telephone: (713) 802-5000.

10. US 290 at the SH 36 Interchange, from FM 389 to 0.05 miles west of CR 49 (Windy Acres Road), Washington County, Texas. The project consists of a modernized direct connect interchange design that will ultimately replace the existing clover leaf intersection. The proposed US 290 direct connect interchange will bridge over SH 36 just south of the current clover leaf intersection. Traffic on US 290 will flow continuously through the interchange with entrance and exit ramps to and from SH 36 and tie in west of Westwood Lane. The current clover leaf intersection will be removed and reconfigured with new ramps to SH 36. In addition, US 290 will be widened to a four-lane divided highway consisting of two travel lanes in each direction separated by a grassy median west of the new direct connect. The project length is approximately 3.25 miles. The actions by TxDOT and Federal agencies and the laws under which such actions were taken are described in the Final Environmental Assessment (EA), the Finding of No Significant Impact (FONSI) issued on March 5, 2024, and other documents in the TxDOT project file. The EA, FONSI, and other documents in the TxDOT project file are available by contacting the TxDOT Bryan District Office at 2591 North Earl Rudder Freeway, Bryan, Texas 77803; telephone: (979) 778-2165.

11. FM 2185 Extension from Looney Spur Road to FM 3541, Culberson County, Texas. The project will extend FM 2185 and reconstruct parts of existing facilities as a “Super 2” roadway. A Super 2 roadway is a two-lane rural highway with periodic passing lanes. The project will extend for a total of 29.66 miles, starting from approximately 750 feet south of the intersection with Looney Spur Road and traversing along Smileys Road for approximately 4.89 miles, branching off onto Weatherby Road and following Weatherby Road for approximately 9.64 miles before branching off at the Nevel Road intersection. The project will then continue for approximately 9.22 miles onto an area that was not previously used for transportation before connecting to Rustler Springs Road and will follow Rustler Springs Road for approximately 5.91 miles before ending at FM 3541, which is approximately 6.19 miles south of RM 652. The Super 2 roadway will consist of one 12-foot-wide travel lane in each direction with a 12-foot-wide passing lane along alternating sides of the roadway. Directions of travel will be separated by a 2-foot-wide, flush at-grade median, and 10-foot-wide shoulders will be constructed along both sides of the roadway. Drainage will continue to consist of an open ditch drainage system, with a 6-foot-wide drainage ditch along alternating sides of the roadway. Twenty-one bridge-class culverts and 43 non-bridge-class culverts are proposed as part of the FM 2185 drainage system. The actions by TxDOT and Federal agencies and the laws under which such actions were taken are described in the Final Environmental Assessment (EA), the Finding of No Significant Impact (FONSI) issued on March 5, 2024, and other documents in the TxDOT project file. The EA, FONSI, and other documents in the TxDOT project file are available by contacting the TxDOT El Paso District Office at 13301 Gateway West, El Paso, Texas 79928; telephone: (915) 790-4341.

12. US 80 From FM 460 to Spur 557 and Spur 557 From US 80 to IH 20, Kaufman County, Texas. The project includes reconstructing US 80, from FM 460 to Spur 557, and Spur 557, from US 80 to IH 20, from a four-lane divided highway to a six-lane divided highway. The improvements consist of three 12-foot-wide travel lanes with typical ten-foot inside shoulders in each direction divided by a concrete barrier along the centerline. The improvements will also include one-way continuous two-lane frontage roads in each direction with ramp improvements that connect frontage roads to mainlanes with an auxiliary lane. Pedestrian and bicycle accommodations are proposed to include ten-foot shared use paths on the outside of the frontage roads in each direction. The project is approximately 12 miles in length. The actions by TxDOT and Federal agencies and the laws under which such actions were taken are described in the Final Environmental Assessment (EA), the Finding of No Significant Impact (FONSI) issued on April 3, 2024, and other documents in the TxDOT project file. The EA, FONSI, and other documents in the TxDOT project file are available by contacting the TxDOT Dallas District Office at 4777 E Highway 80, Mesquite, Texas 75150; telephone: (214) 320-4480.

13. SL 1853 Madisonville Loop from SH 21 approximately 0.7 miles east of FM 1452 to SH 21 approximately 0.4 miles west of FM 2346, Madison County, Texas. The project will provide a limited access, new location roadway around the south side of the City of Madisonville. It will include two 12-foot-wide travel lanes in each direction separated by a 68-foot-wide grassy median. The travel lanes will be bounded by 4-foot wide inside and 10-foot-wide outside shoulders. Through the Caney Creek floodplain, the 68-foot-wide grassy median would be replaced by a concrete median barrier and 10-foot-wide inside shoulders on each side. Construction will also occur along US 190/SH 21 to provide turning lanes onto the new roadway, and along Interstate Highway (IH) 45, where new ramps will provide access to and from the proposed roadway. There will be grade separations at the crossings of SH 90, SH 75, IH 45, Pee Dee Lane, and the Caney Creek floodplain. No dedicated bicycle or pedestrian accommodations would be constructed as part of the proposed project. Drainage along the new roadway will be provided via open ditches. The project length is approximately 7.5 miles. The actions by TxDOT and Federal agencies and the laws under which such actions were taken are described in the Final Environmental Assessment (EA), the Finding of No Significant Impact (FONSI) issued on April 15, 2024, and other documents in the TxDOT project file. The EA, FONSI, and other documents in the TxDOT project file are available by contacting the TxDOT Bryan District Office at 2591 North Earl Rudder Freeway, Bryan, Texas 77803; telephone: (979) 778-2165.

Authority: 23 U.S.C. 139(l)(1).

Michael T. Leary,
Director, Planning and Program Development, Federal Highway Administration.

[FR Doc. 2024-14836 Filed 7-5-24; 8:45 am]

BILLING CODE 4910-22-P